OFFICE OF MANAGEMENT AND BUDGET

Revisions of Rescissions Proposals Pursuant to the Congressional Budget and Impoundment Control Act of 1974

AGENCY: Executive Office of the President, Office of Management and Budget.

ACTION: Notice of revisions to rescissions proposed pursuant to the Congressional Budget and Impoundment Control Act of 1974.

SUMMARY: Pursuant to section 1014(d) of the Congressional Budget and Impoundment Control Act of 1974, OMB is issuing a supplementary special message from the President in regard to the rescissions proposals that were previously transmitted to the Congress on January 14, 2021 under section 1012(a) of that Act. The supplementary special message was transmitted to the Congress on January 31, 2021. The supplementary special message reports the withdrawal of all 73 proposals.

DATES: The Congress was notified on January 31, 2021.

ADDRESSES: This supplementary special message is available on-line on the OMB website at: https://www.whitehouse.gov/omb/supplementals-amendments-and-releases/.

Robert Fairweather,
Acting Director.

Dear Madam President: (Dear Madam Speaker:)

In accordance with section 1014(c) of the Congressional Budget and Impoundment Control Act of 1974 (2 U.S.C. 685(c)), I am withdrawing 73 proposed rescissions previously transmitted to the Congress.

The withdrawals are for the Departments of Agriculture, Commerce, Education, Energy, Health and Human Services, Homeland Security, the Interior, Justice, Labor, State, and the Treasury, as well as the African Development Foundation, the Commission of Fine Arts, the Corporation for National and Community Service, the District of Columbia, the Environmental Protection Agency, the Inter-American Foundation, the Millennium Challenge Corporation, the National Endowments for the Arts and Humanities, the National Gallery of Art, the Peace Corps, the Presidio Trust, the United States Agency for International Development, the United States Army Corps of Engineers, the Woodrow Wilson International Center for Scholars, and the Legislative Branch.

The details of the rescission withdrawals are contained in the attached report.

Sincerely,

Joseph R. Biden Jr.

Rescission proposals nos. R21-1 through R21-73

SUPPLEMENTARY REPORT

Report Pursuant to Section 1014(c) of the Congressional Budget and Impoundment Control Act of 1974 (2 U.S.C. 685(c))

This report updates Rescission proposals R21-1 through R21-73, which were transmitted to the Congress on January 14, 2021.

This report withdraws all of the rescission proposals transmitted on January 14, 2021.

[FR Doc. 2021-02320 Filed 2-3-21; 8:45 am]

BILLING CODE 3110-01-P